DEPARTMENT OF THE TREASURY

Customs Service

[T.D. 00-18]

Geographic Boundaries of Customs Brokerage, Cartage, and Lighterage Districts

Correction

In notice document 00-6263 beginning on page 14011 in the issue of Wednesday, March 15, 2000, make the following correction:

Due to several typesetting errors, page 14012 is being reprinted in its entirety.

Service ports | Ports of entry
Tucson.
California
Los Angeles | Los Angeles-Long Beach. LAX. Las Vegas, NV. Port Hueneme. Port San Luis.
San Diego | Andrade. Calexico. Tecate.
San Francisco | Eureka. Fresno. Reno, NV. San Francisco-Oakland.
District of Columbia
Dulles | Alexandria, VA. Dulles, VA.
Florida
Miami | Key West. Miami. Port Everglades. West Palm Beach.
Tampa | Boca Grande. Fernandina Beach. Jacksonville. Orlando. Panama City. Pensacola. Port Canaveral. Port Manatee. St. Petersburg.
| Tampa.
Georgia
Savannah | Atlanta. Brunswick. Savannah.
Hawaii
Honolulu | Hilo. Honolulu. Kahului Nawilliwili-Port Allen.
Illinois
Chicago | Chicago. Davenport, IA-Moline and Rock Island. Des Moines, IA. Omaha NE. Peoria. Rockford.
Louisiana
New Orleans | Baton Rouge. Chattanooga, TN. Gramercy. Greenville, MS. Knoxville, TN. Lake Charles. Little Rock-North Little Rock, AR. Memphis, TN. Morgan City. Nashville, TN. New Orleans. Shreveport-Bossier City. Vicksburg, MS.
Maine
Portland | Bangor. Bar Harbor. Bath. Belfast. Bridgewater. Calais. Eastport. Fort Fairfield. Fort Kent. Houlton. Jackman. Jonesport. Limestone. Madawaska. Portland. Portsmouth, NH. Rockland. Van Buren. Vanceboro.
Maryland
Baltimore | Annapolis.
| Baltimore.
| Cambridge.
Massachusetts
Boston | Boston.
| Bridgeport, CT.
| Fall River.
| Gloucester.
| Hartford, CT.
| Lawrence.
| New Bedford.
| New Haven, CT.
| New London, CT.
| Plymouth.
| Salem.
| Springfield.
| Worcester.
Michigan
Detroit | Battle Creek.
| Detroit.
| Grand Rapids.
| Muskegon.
| Port Huron.
| Saginaw-Bay City-Flint.
| Sault Ste. Marie.
Minnesota
Duluth | Ashland, WI.
| Duluth and Superior, WI.
| Grand Portage.
| International Falls-Ranier.
Minneapolis | Minneapolis-St. Paul.
Missouri
St. Louis | Kansas City
| Springfield.
| St. Joseph.
| St. Louis.
| St. Wichita.
Montana
Great Falls | Butte.
| Del Bonita.
| Denver, CO.
| Eastport, ID.
| Great Falls.
| Morgan.
| Opheim.
| Piegan.
| Porthill, ID.
| Raymond.
| Roosville.
| Salt Lake City, UT.
| Scobey.
| Sweetgrass.
| Turner.
| Whitetail.
| Whitlash.
New York
Buffalo | Buffalo-Niagara Falls.
| Oswego.
| Rochester.
| Sodus Point.
| Syracuse.
| Utica.
Champlain | Alexandria Bay.
| Cape Vincent.
| Champlain-Rouses Point.
| Clayton.
| Massena.
| Ogdensburg.
| Trout River.
JFK/New York/Newark | Albany.
| New York/Newark, NJ.
| JFK.
| Perth Amboy, NJ.
North Carolina
Charlotte | Beaufort-Morehead City.

[FR Doc. C0-6263 Filed 3-22-00; 8:45 am]

BILLING CODE 1505-01-D